DEPARTMENT OF TRANSPORTATION

Pipeline and Hazardous Materials Safety Administration

[Docket No. PHMSA-2016-0033]

Pipeline Safety: Gas and Liquid Advisory Committee Member Nominations

AGENCY: Pipeline and Hazardous Materials Safety Administration (PHMSA), DOT.

ACTION: Request for nominations for members: Gas and Liquid Pipeline Advisory Committees; vacancies.

SUMMARY: PHMSA is requesting nominations for individuals to serve on the Gas Pipeline Advisory Committee (GPAC), also known as the Technical Pipeline Safety Standards Committee, and the Liquid Pipeline Advisory Committee (LPAC), also known as the Technical Hazardous Liquid Pipeline Safety Standards Committee. The GPAC is composed of 15 members appointed by the Secretary of Transportation after consulting with public and private agencies concerned with the technical aspect of transporting gas or operating a gas pipeline facility. The LPAC is composed of 15 members appointed by the Secretary after consulting with public and private agencies concerned with the technical aspect of transporting hazardous liquid or operating a hazardous liquid pipeline facility.

With this notice, PHMSA is seeking nominations for two individuals from the general public: one on the LPAC and one on the GPAC. Additionally, PHMSA is seeking to fill four state commissioner vacancies, two on each committee and one federal government vacancy on the GPAC committee.

DATES: Nominations must be received by June 23, 2016.

ADDRESSES: All nomination material should be emailed to Advisory Committee Program Manager Cheryl Whetsel at Cheryl.whetsel@dot.gov or mailed to the Pipeline and Hazardous Materials Safety Administration, 1200 New Jersey Ave. SE., PHP-30, E24-445, Washington, DC 20590.

FOR FURTHER INFORMATION CONTACT: Cheryl Whetsel, (202) 366-4431 or cheryl.whetsel@dot.gov. Information about the GPAC and LPAC can also be obtained by visiting PHMSA's Web site by using the following link: http://www.phmsa.dot.gov/pipeline/regs/technical-advisory-comm.

SUPPLEMENTARY INFORMATION:

I. Advisory Committee Background

The GPAC and LPAC are statutorily mandated advisory committees that provide recommendations and advice on PHMSA's proposed safety standards, risk assessments, and safety policies for gas pipelines and for hazardous liquid pipelines. Both committees were established in accordance with the Federal Advisory Committee Act (FACA) and 49 U.S.C. 60115.

No later than 90 days after receiving a proposed standard and supporting analyses, the appropriate committee prepares and submits a report to the Secretary of Transportation on the technical feasibility, reasonableness, cost-effectiveness, and practicability of the proposed standard. The Secretary must publish each report, including any recommended actions and minority views. The Secretary is not bound by the committee's conclusions. However, if the Secretary rejects them, he must publish the reasons.

Pursuant to 49 U.S.C. 60115, the Secretary of Transportation has the authority to appoint to each committee (1) five individuals from departments, agencies, and instrumentalities of the U.S. Government and of the states; (2) five individuals from the natural gas or hazardous liquid industry, selected in consultation with industry representatives; and (3) five individuals selected from the general public. Two of the individuals selected for each committee from the government must be state commissioners.

At least three of the individuals selected for each committee from the industry must be currently in the active operation of natural gas or hazardous liquid pipelines or pipeline facilities. At least one individual selected for each committee serving from the industry must have education, background, or experience in risk assessment and cost-benefit analysis.

Two of the individuals selected for each committee from the general public must have education, background, or experience in environmental protection or public safety. At least one individual selected for each committee serving from the general public must have education, background, or experience in risk assessment and cost-benefit analysis. At least one individual selected for each committee from the general public may not have any financial interest in pipeline, petroleum, or natural gas industries. No individuals selected for a committee serving from the general public may have a significant financial interest in the pipeline, petroleum, or gas industry.

II. Criteria for Committee Members

The committee members selected by the Secretary of Transportation must be knowledgeable in the safety regulation of transporting natural gas or hazardous liquids or operating a natural gas or hazardous liquid pipeline facility or, nominees that are technically qualified, by training, experience or knowledge, in at least one field of engineering applicable to transporting gas or hazardous liquids or operating a gas or hazardous liquid pipeline facility. Members must also meet the applicable criteria mentioned under section I of this notice. Nominees should represent a broad constituency whose views the candidate can represent. Individuals associated with organizations concerned with fire safety, pipeline engineering, risk analysis, emergency response, and other similar public safety groups as well as environmental protection groups may have the knowledge and experience we are looking for. In addition, experience working in a consensus building environment would be helpful. The Secretary will consult with the national organization of State commissioners before selecting any state commissioner. Additionally, the Secretary will consult with the national organizations representing the owners and operators of pipeline facilities before selecting individuals from the industry.

III. Terms of Service

• Each member serves a three-year term, unless the member becomes unable to serve, resigns, ceases to be qualified to serve, or is removed by the Secretary.

• Members may be reappointed.

• All members serve at their own expense and receive no salary from the Federal Government, although travel reimbursement and per diem may be provided.

• The GPAC and LPAC generally meet in-person in the Washington, DC, Metropolitan area.

• PHMSA will ask potential public candidates to provide detailed information concerning such matters related to financial holdings, employment, and research grants and/or contracts to permit evaluation of possible sources of conflicts of interest.

IV. Nomination Procedures

Any interested person may nominate one or more qualified individuals for membership on the advisory committee. Self-nominations are also accepted.

• Nominations must include a current, complete résumé including current business address and/or home address, telephone number, and email address, education, professional or business experience, present occupation, and membership on other advisory committees past or present) for each nominee.

• Each nominee must meet the training, education or experience requirements listed under section II above.

• Nominations must also specify the advisory committee for which the nominee is recommended (the GPAC or LPAC).

• Nominations must also acknowledge that the nominee is aware of the nomination unless self-nominated.

Issued in Washington, DC, on May 18, 2016, under authority delegated in 49 CFR 1.97.
Alan K. Mayberry,
Acting Associate Administrator for Pipeline Safety.

[FR Doc. 2016-12136 Filed 5-23-16; 8:45 am]

BILLING CODE 4910-60-PA24MY3.